DEPARTMENT OF TRANSPORTATION

Coast Guard

33 CFR Part 165

[CGD07-00-086]

RIN 2115-AE84

Regulated Navigational Area: Sanibel, FL

AGENCY: Coast Guard, DOT.

ACTION: Temporary final rule.

SUMMARY: The Coast Guard is establishing a temporary regulated navigation area at the Sanibel Island Bridge “A” span. This regulated navigation area is needed to protect the public from the hazards resulting from damage caused to the west side fender system and the unprotected bridge support pilings. This rule implements vessel operating requirements until the damage is repaired.

DATES: This rule is effective from 11:15 a.m. August 25, 2000, to 8 a.m. on December 5, 2000.

ADDRESSES: Comments and material received from the public, as well as documents indicated in this preamble as being available in the docket, are part of docket (CGD07-00-086) and are available for inspection or copying at, Marine Safety Office Tampa between 8 a.m. and 4 p.m., Monday through Friday, except Federal holidays.

FOR FURTHER INFORMATION CONTACT: Commanding Officer, Marine Safety Office Tampa, 155 Columbia Drive, Tampa, Fl 33606, Attn: Lieutenant Warren Weedon, or phone (813) 228-2189 ext 101.

SUPPLEMENTARY INFORMATION:

Regulatory Information

We did not publish a notice of proposed rulemaking (NPRM) for this regulation. Under 5 U.S.C. 553(b)(B), the Coast Guard finds that good cause exists for not publishing an NPRM because immediate action is necessary to minimize potential danger to the public from large vessel traffic transiting through the recently damaged bridge.

Further, under 5 U.S.C. 553(d)(3), the Coast Guard finds that good cause exists for making this rule effective less than 30 days after publication in the Federal Register. Immediate action is necessary to minimize potential danger to the public from large vessel traffic transiting through the recently damaged bridge.

Background and Purpose

At approximately 8 p.m. on August 17, 2000, a barge collided with the west side of the fendering system of the Sanibel Island Bridge “A” span at Sanibel, Florida. The west side fender system and associated dolphins were destroyed leaving the bridge support pilings unprotected. This drawbridge connects Sanibel Island to the mainland, and spans San Carlos Bay, a waterway that provides access to the Intercoastal Waterway . Occasional barge traffic transits the waterway under this bridge. The potential risk of these transits is increased because of the recent damage and therefore all barge traffic transiting under the Sanibel Island “A” span will be limited to slack water transits only. Further, all barges shall have two tugs made fast fore and aft of the barge, respectively, each with adequate horsepower to fully maneuver the barge. Tides through the bridge occur twice daily, providing four (4) slack water periods of approximately one and one-half (1 ½) hours per period. Repair crews have begun removal of the damaged fender and may be operating in or near the channel. The scheduled completion of repairs is approximately 90 days.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, l979). Vessel traffic affected by this rule can either enter the San Carlos Bay via alternate passages to the north, or schedule their transit for slack water periods.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners or operators of barges intending to transit the waterway under the bridge. This rule will not have a significant economic impact on a substantial number of small entities for the following reasons.

This rule will be in effect for a limited time until the bridge fendering system is repaired. Further, alternate routes to the north of the Sanibel Island Bridge are available for barge traffic or barges can schedule their transit during slack water.

Assistance for Small Entities

Under section 213(a) of the Small Business Regulatory Enforcement Fairness Act of 1996 (Pub. L. 104-121), we offered to assist small entities in understanding the rule so that they could better evaluate its effects on them and participate in the rulemaking process. If the rule will affect your small business, organization, or government jurisdiction and you have questions concerning its provisions or options for compliance, please contact the person listed under FOR FURTHER INFORMATION CONTACT for assistance in understanding and participating in this rulemaking.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that under figure 2-1, paragraph (34)(g), of Commandant Instruction M16475.1C, this rule is categorically excluded from further environmental documentation. The environmental analysis checklist and Categorical Exclusion Determination will be prepared after the rule takes effect and will be available in the docket for inspection or copying where indicated under ADDRESSES.

List of Subjects in 33 CFR Part 165

Harbors, Marine safety, Navigation (water), Reporting and recordkeeping requirements, Safety measures, Waterways.

For the reasons discussed in the preamble, the Coast Guard amends 33 CFR part 165 as follows:

PART 165—[AMENDED]

1. The authority citation for Part 165 continues to read as follows:

Authority: 33 U.S.C. 1231; 50 U.S.C. 191; 33 CFR 1.05-1(g), 6.04-1, 6.04-6, 160.5; 49 CFR 1.46.

2. Temporary § 165.T07-086 is added to read as follows:

§ 165.T07-086 Regulated Navigational Area, San Carlos Bay, Sanibel Island Bridge “A” span, Sanibel, Florida.

(a) Location. The following area is a regulated navigation area. All water under the main bridge span of Sanibel Island bridge extending 100 feet on either side of the bridge within the main channel.

(b) Regulated area. In accordance with the regulations of this part, no vessel may operate within the regulated navigational area contrary to this regulation. All barges shall have two tugs made fast fore and aft of the barge, respectively, each with adequate horsepower to fully maneuver the barge. Barges shall only transit the area at slack water. Smaller vessels are not limited to transiting at slack water but shall stay clear of the damaged section of the fendering system and work vessels operating in the vicinity. The Captain of the Port Tampa will notify the public of changes in the status of this zone via Broadcast Notice to Mariners.

(c) Effective dates. This regulation becomes effective at 11:15 a.m., August 25, 2000, and terminates at 8 a.m. on December 5, 2000.

Dated: August 25, 2000.
G.W. Sutton,
Captain, U.S. Coast Guard, Acting Commander, Seventh Coast Guard District.

[FR Doc. 00-23257 Filed 9-8-00; 8:45 am]

BILLING CODE 4910-15-U